DEPARTMENT OF THE TREASURY

Submission for OMB Review; Comment Request

December 2, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before January 7, 2009 to be assured of consideration.

Internal Revenue Service (IRS)

OMB Number: 1545-1942.

Type of Review: Extension.

Title: Notice 2005-44, Charitable Contributions of Certain Motor Vehicles, Boats, and Airplanes.

Description: The notice provides guidance under new Subsection 170(f)(12) and 6720 regarding how to determine the amount of a charitable contribution for certain vehicles and the related substantiation and information reporting requirements.

Respondents: Individuals or Households.

Estimated Total Burden Hours: 3,041 hours.

OMB Number: 1545-2117.

Type of Review: Extension.

Title: TD 9423 (Final)—Implementation of Form 990 (REG-142333-07 (Prop & Temp)).

Description: This document contains final and temporary regulations necessary to implement the redesigned Form 990, “Return of Organization Exempt From Income Tax.” All tax exempt organizations required under section 6033 of the Internal Revenue Code (Code) to file annual information returns are affected by these temporary regulations. These regulations are applicable to taxable years beginning after December 31, 2007. Because these regulations are already applicable, taxpayers.

Respondents: Private Sector.

Estimated Total Burden Hours: 1 hours.

OMB Number: 1545-1660.

Type of Review: Extension.

Title: Notice 99-43 Nonrecognition Exchanges under Section 897.

Description: Notice 99-43 This notice announces a modification of the current rules under Temporary Regulation Sec. 1.897-6T(a)(1) regarding transfers, exchanges, and other dispositions of U.S. real property interests in nonrecognition transactions occurring after June 18, 1980. The new rule will be included in regulations finalizing the temporary regulations.

Respondents: Private Sector.

Estimated Total Burden Hours: 200 hours.

OMB Number: 1545-1505.

Type of Review: Extension.

Form: 8820.

Title: Orphan Drug Credit.

Description: Filers use this form to elect to claim the orphan drug credit, which is 50% of the qualified clinical testing expenses paid or incurred with respect to low or unprofitable drugs for rare diseases and conditions, as designated under section 526 of the Federal Food, Drug, and Cosmetic Act.

Respondents: Private Sector.

Estimated Total Burden Hours: 266 hours.

OMB Number: 1545-1221.

Type of Review: Extension.

Title: EE-147-87 (Final) Qualified Separate Lines of Business.

Description: The affected public includes employers who maintain qualified employee retirement plans. Were applicable, the employer must furnish notice to the IRS that the employer treats itself as operating qualified separate lines of business and some may request an IRS determination that such lines satisfy administrative scrutiny.

Respondents: Private Sector.

Estimated Total Burden Hours: 899 hours.

OMB Number: 1545-0499.

Type of Review: Extension.

Form: 5305-SEP.

Title: Simplified Employee Pension—Individual Retirement Accounts Contribution Agreement.

Description: This form is used by an employer to make and agreement to provide benefits to all employees under a Simplified Employee Pension (SEP) described in section 408(k). This form is not to be filed with the IRS but to be retained in the employer's records as proof of establishing a SEP and justifying a deduction for contributions to the SEP. The data is used to verify the deduction.

Respondents: Private Sector.

Estimated Total Burden Hours: 495,000 hours.

Clearance Officer: Glenn P. Kirkland, (202) 622-3428, Internal Revenue Service, Room 6516, 1111 Constitution Avenue, NW., Washington, DC 20224.

OMB Reviewer: Nicholas A. Fraser, (202) 395-5887, Office of Management and Budget, Room 10235, New Executive Office Building, Washington, DC 20503.

Celina Elphage,
Treasury PRA Clearance Officer.

[FR Doc. E8-28943 Filed 12-5-08; 8:45 am]

BILLING CODE 4830-01-P